DEPARTMENT OF HOMELAND SECURITY

Federal Emergency Management Agency

[Docket ID: FEMA-2020-0035; OMB No. 1660-0072]

Agency Information Collection Activities: Submission for OMB Review; Comment Request; Flood Mitigation Assistance (FMA); Building Resilient Infrastructure and Communities (BRIC); Pre-Disaster Mitigation (PDM)

AGENCY: Federal Emergency Management Agency, Department of Homeland Security (DHS).

ACTION: 30-Day notice and request for comments.

SUMMARY: The Federal Emergency Management Agency (FEMA) will submit the information collection described below to the Office of Management and Budget for review and clearance in accordance with the requirements of the Paperwork Reduction Act of 1995. While this information collection continues to include the Flood Mitigation Assistance (FMA) and Pre-Disaster Mitigation (PDM) programs, it introduces the Building Resilient Infrastructure and Communities (BRIC) program, and addresses the process for using a BRIC fiscal year (FY) 20 National Competition Panel Review Expression of Interest Form to solicit panel members to review competitive BRIC grant applications. After reviewing all the comments submitted, FEMA has decided to use the BRIC FY20 National Competition Panel Review Expression of Interest Form to solicit interest from potential panelists.

DATES: Written comments must be received on or before February 8, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jennie Orenstein, Grants Policy Branch Chief, Federal Insurance and Mitigation Administration, FEMA, Jennie.Orenstein@fema.dhs.gov, (202) 212-4071. You may contact the Records Management Division for copies of the proposed collection of information at email address: FEMA-Information-Collections-Management@fema.dhs.gov.

SUPPLEMENTARY INFORMATION: This collection of information is necessary to implement grants for the Flood Mitigation Assistance (FMA) program, Pre-Disaster Mitigation (PDM), and Building Resilient Infrastructure and Communities (BRIC) program.

The FMA program is authorized pursuant to Section 1366 of the National Flood Insurance Act of 1968, as amended (42 U.S.C. 4104c). FMA was created as part of the National Flood Insurance Reform Act (NFIRA) of 1994, Public Law 103-325. The Biggert-Waters Flood Insurance Reform Act of 2012 (BW-12), Public Law 112-141, consolidated the Repetitive Flood Claims (RFC) and Severe Repetitive Loss grant (SRL) programs into FMA. Under FMA, cost-share requirements were changed to allow more Federal funds for properties with repetitive flood claims. The FMA program, under 44 CFR part 79, provides funding for measures taken to reduce or eliminate the long-term risk of flood damage to buildings, manufactured homes, and other structures insured under the National Flood Insurance Program (NFIP).

PDM was authorized under Section 203 of the Robert T. Stafford Disaster Relief and Emergency Assistance Act (Stafford Act), Public Law 93-288, as amended by Section 102 of the Disaster Mitigation Act of 2000, Public Law 106-390 (42 U.S.C. 5133). As a result of amendments by the Disaster Recovery Reform Act of 2018 (DRRA), the PDM program is being replaced with the BRIC program. Therefore, PDM is established as a legacy program. The PDM program provided grants for cost-effective mitigation actions prior to a disaster event to reduce overall risks to the population and structures while also reducing reliance on funding from actual disaster declarations. While the last cycle of the PDM program awards were made in Fiscal Year (FY) 2019, information collection will continue through FY 2020-2021 for grant monitoring and closeout.

The Disaster Recovery Reform Act of 2018, Section 1234, National Public Infrastructure Pre-Disaster Hazard Mitigation, amended Section 203 of the Stafford Act (42 U.S.C. 5133) to authorize BRIC. The BRIC program is designed to promote a national culture of preparedness and public safety through encouraging investments to protect our communities and infrastructure and through strengthening national mitigation capabilities to foster resilience. The BRIC program seeks to fund effective and innovative projects that will reduce risk, increase resilience, and serve as a catalyst to encourage the whole community to invest in and adopt policies related to mitigation.

The guiding principles of the BRIC program are to (1) support state and local governments, tribes, and territories through capability and capacity-building to enable them to identify mitigation actions and implement projects that reduce risks posed by natural hazards; (2) encourage and enable innovation while allowing flexibility, consistency, and effectiveness; (3) promote partnerships and enable high-impact investments to reduce risk from natural hazards with a focus on critical services and facilities, public infrastructure, public safety, public health, and communities; (4) provide a significant opportunity to reduce future losses and minimize impacts on the Disaster Relief Fund; and (5) support the adoption and enforcement of building codes, standards, and policies that will protect the health, safety, and general welfare of the public, take into account future conditions, and have long-lasting impacts on community risk reduction, including for critical services and facilities and for future disaster costs. The BRIC program will distribute funds annually and apply a federal/non-federal cost share.

In accordance with OMB Circular A-102, FEMA requires that all parties interested in receiving FEMA mitigation grants to submit an application package for grant assistance. Applications and sub-applications for the BRIC and FMA programs are submitted via the FEMA Grants Outcome (GO) system. Information necessary for the ongoing monitoring and closeout of the PDM program for FY 2019 and prior will be collected via the e-Grants system. The FEMA GO and e-Grants systems have been developed to meet the intent of the e-Government initiative, authorized by Public Law 106-107. This initiative requires that all government agencies both streamline grant application processes and provide for the means to electronically create, review, and submit a grant application via the internet.

To increase transparency in decision-making while building capability and partnerships, FEMA will convene a National Review Panel to score applications and sub-applications based on qualitative evaluation criteria. The qualitative criteria are narrative submissions to allow applicants and sub-applicants the flexibility to fully explain the strengths of the proposed project. Qualitative evaluation criteria have graded scales of point scoring.

The BRIC program will need to solicit volunteers from State, local, Tribal, and territorial governments (SLTTs) and Other Federal Agencies (OFAs) to review applications that are routed to the qualitative panel reviews. The volunteers will review and score applications based on a pre-determined scoring criterion.

This proposed information collection previously published in the Federal Register on October 27, 2020, with a 60-day public comment period. The comment period closed on December 28, 2020. FEMA received one comment with two parts via www.regulations.gov in response to Information Collection 1660-0072. A summary of the comment and FEMA's response is provided below.

The first part of the comment stated that because “community” is used in program descriptions, applications and sub-applications submitted by SLTTs for BRIC and FMA grants should include additional information such as evidence of public outreach and education on proposed mitigation activities and public comment on the proposed mitigation activities. In response, while FEMA appreciates this comment, the Federal Register notice for this information collection was published to solicit feedback about the expression of interest form created to solicit potential panelists for the BRIC application review process. Adding additional requirements to BRIC applications and sub-applications is outside the scope of this matter.

The second part of the comment seeks additional information about the makeup of the qualitative panel, the review process, and whether panelists will be compensated for their participation in the review process. In response, FEMA provides the following information.

BRIC applications and sub-applications will be reviewed for Eligibility and Completeness (E&C) by FEMA's respective regional offices. During the E&C review, projects that are submitted to the national competition will also be provided a technical score. Technical scores are made up of 100 points, which are binary points. After applications have gone through the E&C review, they will be forwarded to the National Technical Review (NTR). Projects that are marked as standard or decentralized during the E&C review will be reviewed and issued an NTR memo. After NTR has concluded, the projects that are submitted to the national competition will be sent to the qualitative panels. During the qualitative panels, applications will be reviewed by representatives from the SLTTs and OFAs that comprise the panel and scored based on a gradient scale. Qualitative scoring has a total of 100 possible points. The scoring is made up of six (6) criteria, all ranging in different point value. The panelists will leverage their mitigation experience and expertise during the review to assess the degree to which subapplications meet the six BRIC qualitative evaluation criteria. The subapplication's final qualitative score will be calculated by averaging the qualitative scores from each panelist. The six criteria include the following: (1) Risk Reduction/Resiliency Effectiveness possible 35 points, (2) Future Conditions possible 15 points, (3) Implementation Measures possible 15 points, (4) Population Impacted possible 15 points, (5) Outreach Activities possible 5 points, and (6) Leveraging Partners possible 15 points. More information on the background, evaluation process and scoring, and criteria can be found here: https://www.fema.gov/sites/default/files/2020-08/fema_bric-qualitative-criteria_support_document_08-2020.pdf . For the qualitative panels, each application will be reviewed and scored by three (3) volunteer panel members. The panelists will not be compensated for their participation.

Collection of Information

Title: Mitigation Grant Programs.

Type of Information Collection: Revision of a currently approved collection.

OMB Number: 1660-0072.

FEMA Forms: Building Resilient Infrastructure and Communities (BRIC) FY20 National Competition Panel Review Expression of Interest Form.

Abstract: FEMA's FMA and BRIC programs use an automated grant application and management system called FEMA GO. The Pre-Disaster Mitigation program uses an automated grant application and management system called e-Grants. These grant programs provide funding for the purpose of reducing or eliminating the risks to life and property from hazards. The FEMA GO and e-Grants systems include all the application information needed to apply for funding under these grant programs. FEMA and SLTTs will use the information submitted via the FY20 National Competition Panel Review Expression of Interest Form to solicit volunteers from SLTTs and OFAs to review applications that are routed to the BRIC qualitative panel reviews. The volunteers will review, and score applications based on a pre-determined scoring criterion.

Affected Public: Federal Government; State, local, Tribal, and territorial governments; Individuals or Households.

Estimated Number of Respondents: 436.

Estimated Number of Responses: 5,364.

Estimated Total Annual Burden Hours: 58,248.

Estimated Total Annual Respondent Cost: $3,324,211.

Estimated Respondents' Operation and Maintenance Costs: None.

Estimated Respondents' Capital and Start-Up Costs: None.

Estimated Total Annual Cost to the Federal Government: $7,586,635.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L Brown,
Acting Records Management Branch Chief, Office of the Chief Administrative Officer, Mission Support, Federal Emergency Management Agency, Department of Homeland Security.

[FR Doc. 2021-00027 Filed 1-6-21; 8:45 am]

BILLING CODE 9111-BW-P